DEPARTMENT OF THE INTERIOR

National Park Service

[NPS-WASO-NAGPRA-NPS0031769; PPWOCRADN0-PCU00RP14.R50000]

Notice of Inventory Completion: Valentine Museum, Richmond, VA

AGENCY: National Park Service, Interior.

ACTION: Notice.

SUMMARY: The Valentine Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Valentine Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Valentine Museum at the address in this notice by May 27, 2021.

ADDRESSES: Alicia Starliper, Collection Project Manager/Registrar, The Valentine Museum, 1015 E Clay Street, Richmond, VA 23219, telephone (804) 649-0711 Ext. 329, email astarliper@thevalentine.org.

SUPPLEMENTARY INFORMATION: Notice is here given in accordance with the Native American Graves Protection and Repatriation Act (NAGPRA), 25 U.S.C. 3003, of the completion of an inventory of human remains and associated funerary objects under the control of the Valentine Museum, Richmond, VA. The human remains and associated funerary objects were removed from Bell Mound #2, also known as Chief's Mound, in Rockbridge County, VA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Valentine Museum professional staff. The Chickahominy Indian Tribe; Chickahominy Indian Tribe—Eastern Division; Eastern Band of Cherokee Indians; Monacan Indian Nation; Nansemond Indian Nation [previously listed as Nansemond Indian Tribe]; Pamunkey Indian Tribe; Upper Mattaponi Tribe; and as well as four non-federally recognized Indian groups—the Cheroenhaka (Nottoway) Indian Tribe; Mattaponi Nation; Nottoway Indian Tribe of Virginia; and the Patawomeck Indian Tribe of Virginia—were contacted by Valentine Museum, but no in-person consultation was requested. Hereafter, all the above entities are referred to as “The Tribes and Groups.”

History and Description of the Remains

In 1877, human remains representing, at minimum, one individual were removed from Bell Mound #2, also known as Chief's Mound in Rockbridge County, VA. During regular collection inventory activities, the Valentine Museum staff discovered a container with the following exhibition label description: “CHIEF'S MOUND On the farm of John M. Bell, on the Calf Pasture River, 150 yards from Bell Mound and about 4 miles from Goshen, Virginia. Made from earth unlike the surrounding soil and seemingly brought from a distance. Circumference was 75 feet, height 5¼ feet at the apex. A tree grew in the exact center. In digging, horizontal seams of pulverized charcoal were found at different levels. About 3½ feet from the center and 3½ feet below the top were found two perforated stones, a polished celt, a polishing stone (?), and a piece of zinc ore. In the center were found the bones of a dog, a pot containing hematite upon a sheet of mica; under this a clear quartz crystal; a greater mass of charcoal than any before met, a few charred bones, and pieces of wood. Nearby was a piece of worked copper and more mica. It seems apparent the entire mound was raised in honour of one man whose body was cremated.” According to a typed transcription of a first-person account in the museum archives titled “The Hero Mound of The White Cliffs,” the human remains and associated funerary objects were excavated from a mound on the property of John Marshall Bell, Esq. (1815—1890), which was situated on the forks of Cow-Pasture and Calf-Pasture Rivers in Rockbridge County, VA. The mound was located approximately 150 yards west of the farmhouse. The author of the story is presumed to be Mann S. Valentine II (accompanied by his son Granville G. Valentine), who procured laborers at his expense to excavate the mound for a personal collection. The contents of the mound are described in detail and match the information provided on the exhibition label discovered during the inventory. Debra Gould, author of “Bioarcheology of Virginia Burial Mounds,” has noted that in August 1877, Mann S. Valentine II and his son Granville excavated two mounds in Rockbridge County, VA, which are known today as Bell Mound #1 and Bell Mound #2. According to C. G. Holland, author of the article “Preceramic and Ceramic Cultural Patterns in Northwest Virginia,” Chief's Mound and Bell Mound #2 are one in the same. No known individual was identified. The three associated funerary objects are one partial vessel, one clear quartz crystal, and one worked copper object.

Bell Mound #2 (aka Chief's Mound) is in the same county as Hayes Creek Mound, another Rockbridge County site opened by the Valentine family (in 1901). Following the recommendation of the NAGPRA Review Committee and the Secretary of the Interior's concurrence, in 2000, the Virginia Department of Historic Resources repatriated the remains of 105 individuals from Hayes Creek Mound to the Monacan Indian Nation, who at the time were not federally recognized (the Monacan Indian Nation gained Federal recognition in 2018). The Valentine Museum believes that the geographical proximity of Bell Mound #2 (aka Chief's Mound) to Hayes Creek Mound and the evidence of a cultural connection to the earlier group at Hayes Creek Mound previously presented by the Monacan Indian Nation demonstrate that a cultural affiliation exists between the Monacan Indian Nation and the earlier group at Bell Mound #2 (aka Chief's Mound).

Determinations Made by the Valentine Museum

Officials of the Valentine Museum have determined that:

• Pursuant to 25 U.S.C. 3001(9), the human remains described in this notice represent the physical remains of one individual of Native American ancestry.

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American human remains and associated funerary objects and the Monacan Indian Nation.

Additional Requestors and Disposition

Lineal descendants or representatives of any Indian Tribe or Native Hawaiian organization not identified in this notice that wish to request transfer of control of these human remains and associated funerary objects should submit a written request with information in support of the request to Alicia Starliper, Collection Project Manager/Registrar, The Valentine Museum, 1015 E Clay Street, Richmond, VA 23219, telephone (804) 649-0711 Ext. 329, email astarliper@thevalentine.org, by May 27, 2021. After that date, if no additional requestors have come forward, transfer of control of the human remains and associated funerary objects to the Monacan Indian Nation may proceed.

The Valentine Museum is responsible for notifying The Tribes and Groups that this notice has been published.

Dated: April 19, 2021.
Melanie O'Brien,
Manager, National NAGPRA Program.

[FR Doc. 2021-08769 Filed 4-26-21; 8:45 am]

BILLING CODE 4312-52-P